DEPARTMENT OF THE INTERIOR

Bureau of Land Management

[CA-660-1430-ER-CACA-44491]

Notice of Availability of the Draft Environmental Impact Statement/Environmental Impact Report (EIS/EIR) for the Imperial Irrigation District's Desert Southwest Transmission Line Project, California

AGENCY: Bureau of Land Management, Interior.

ACTION: Notice of availability.

SUMMARY: In compliance with the National Environmental Policy Act of 1969, as amended, 42 U.S.C 4321-4347, and title 40 CFR part 1500, the Bureau of Land Management (BLM) hereby gives notice that the draft Environmental Impact Statement/Environmental Impact Report (EIS/EIR) for the Imperial Irrigation District's (IID) Desert Southwest Transmission Line Project is available for public review and comment. This project may involve an amendment to the applicable BLM land use plan: The California Desert Conservation Area (CDCA) Plan of 1980, as amended.

DATES: Comments will be accepted until 90 days have elapsed after publication of a notice of availability of this document, in the Federal Register, by the Environmental Protection Agency (EPA).

ADDRESSES: If you wish to comment, you may submit your comments by any of several methods. You may mail comments to: James G. Kenna, Field Manager; Bureau of Land Management, Palm Springs—South Coast Field Office, P.O. Box 581260, North Palm Springs, CA 92258.

You may also comment via the Internet to dgomez@ca.blm.gov. Please include in the subject line: “Draft EIS/EIR, Desert Southwest Transmission Line Project” and your name and return address in your Internet message. If you do not receive a confirmation that we have received your Internet message, contact Diane Gomez at (760) 251-4852. You may also hand-deliver comments to: Bureau of Land Management, Palm Springs-South Coast Field Office, 690 W. Garnet Avenue, North Palm Springs, CA 92258.

Oral comments will be accepted at any of three public meetings to be held during the month of November 2003. These meetings will be held in El Centro, Blythe, and North Palm Springs, California. Notices published in local media will be provided at least 15 days prior to the scheduled public meetings.

Individuals may request confidentiality with respect to their name, address, and phone number. If you wish to have your name or street address withheld from public review, or from disclosure under the Freedom of Information Act, the first line of the comment should start with the words ‘CONFIDENTIALITY REQUESTED’ in uppercase letters in order for BLM to comply with your request. Such request will be honored to the extent allowed by law. Comment contents will not be kept confidential. All submissions from organizations or businesses, and from individuals identifying themselves as representatives or officials of organizations or businesses, will be available for public inspection in their entirety.

FOR FURTHER INFORMATION CONTACT: Diane Gomez at (760) 251-4852 or e-mail: dgomez@ca.blm.gov.

SUPPLEMENTARY INFORMATION: A copy of the draft Environmental Impact Statement/Environmental Impact Report (EIS/EIR) for the Imperial Irrigation District's Proposed Desert Southwest Transmission Line Project is available for review via the Internet at http://www.ca.blm.gov/palmsprings. Electronic (on CD-ROM) and paper copies may also be obtained by contacting Diane Gomez at the aforementioned addresses and phone number.

The IID is proposing to construct a 230 or 500 kilovolt (kV) electrical transmission line located parallel and adjacent to Interstate Highway 10 between North Palm Springs and Blythe, California, a distance of approximately 118 miles. Four alternatives to the proposed project are being considered in this EIS/EIR. These alternatives are consistent with the California Desert Conservation Area (CDCA) Plan of 1980, as amended, with the exception of Alternative B. This alternative is located partially outside of designated utility corridors under the CDCA Plan and would; if selected, require an amendment to this land use plan.

The BLM, together with the IID, have jointly prepared this draft EIS/EIR. The BLM is the lead Federal agency for the preparation of this EIS/EIR in compliance with the requirements of the National Environmental Policy Act (NEPA). The IID is the lead State of California agency for the preparation of this EIS/EIR in compliance with the requirements of the California Environmental Quality Act (CEQA).

Dated: September 29, 2003.
John R. Kalish,
Acting Field Manager.

[FR Doc. 03-31101 Filed 12-18-03; 8:45 am]

BILLING CODE 4310-40-P